ARCHITECTURAL AND TRANSPORTATION BARRIERS COMPLIANCE BOARD

36 CFR Part 1191

RIN 3014-AA20

Americans With Disabilities Act (ADA) Accessibility Guidelines for Buildings and Facilities; Architectural Barriers Act (ABA) Accessibility Guidelines; Supplementary Material

AGENCY: Architectural and Transportation Barriers Compliance Board.

ACTION: Final rule; supplementary material.

SUMMARY: The Architectural and Transportation Barriers Compliance Board (Access Board) revised its accessibility guidelines for the construction and alteration of buildings and facilities covered by the Americans with Disabilities Act and the Architectural Barriers Act in 2004. The Department of Transportation, General Services Administration, and United States Postal Service have adopted by reference the revised guidelines as regulatory standards. The Department of Transportation has modified four sections of the revised guidelines that affect entities required to comply with the Department of Transportation's regulatory standards. This document adds notes to provide supplementary material on the agencies that have adopted the revised guidelines as regulatory standards. This document also adds a new appendix that reprints the modified sections of the revised guidelines adopted by the Department of Transportation for entities required to comply with the Department of Transportation's regulatory standards.

DATES: Effective March 23, 2007.

FOR FURTHER INFORMATION CONTACT: James Raggio, Office of General Counsel, Architectural and Transportation Barriers Compliance Board, 1331 F Street, NW., Suite 1000, Washington, DC 20004-1111. Telephone numbers: (202) 272-0040 (voice); 202 272-0082 (TTY). E-mail address: raggio@access-board.gov.

SUPPLEMENTARY INFORMATION: The Architectural and Transportation Barriers Compliance Board (Access Board) is responsible for establishing and maintaining guidelines to ensure that the construction and alteration of buildings and facilities covered by the Americans with Disabilities Act and the Architectural Barriers Act are accessible to individuals with disabilities. Other agencies are responsible for adopting the guidelines as regulatory standards. The agencies may modify the guidelines when adopting them as regulatory standards, provided the modifications are consistent with the guidelines.

The Access Board revised its accessibility guidelines for the construction and alteration of buildings and facilities covered by the Americans with Disabilities Act and the Architectural Barriers Act in 2004. 69 FR 44084, July 23, 2004. The Access Board published correcting amendments to the revised guidelines in 2005. 70 FR 45308, August 5, 2005. The revised guidelines and correcting amendments are codified in the July 1, 2006 edition of the Code of Federal Regulations (36 CFR part 1191) and consist of five appendices:

Appendix A—Table of Contents.

Appendix B—Americans with Disabilities Act: Scoping (ADA Chapters 1and 2).

Appendix C—Architectural Barriers Act: Scoping (ABA Chapter 1 and 2).

Appendix D—Technical (Chapter 3 through 10).

Appendix E—List of Figures and Index.

As discussed below, three agencies have adopted by reference the revised guidelines as regulatory standards. The Access Board is adding notes to paragraphs (a) and (b) of § 1191.1 to provide readers supplementary material on the agencies that have adopted the revised guidelines as regulatory standards.

The Department of Transportation has amended its regulations implementing the Americans with Disabilities Act, and has adopted by reference Appendices B and D to this part as the regulatory standards for the construction and alteration of transportation facilities subject to its regulations, effective November 29, 2006. 49 CFR 37.9 and Appendix A to 49 CFR part 37, as amended at 71 FR 63263, October 30, 2006; and corrected at 72 FR 11089, March 12, 2007. The Department of Transportation has modified section 206.3 in Appendix B to this part; and sections 406, 810.2.2, and 810.5.3 in Appendix D to this part. The Access Board is adding a new Appendix F to this part that reprints the modified sections adopted by the Department of Transportation as a convenience for readers. Entities that are required to comply with the Department of Transportation's regulatory standards, must comply with the modified sections adopted by the Department of Transportation. The Department of Transportation has provided supplemental material on the modified sections in Appendix D to 49 CFR part 37.

The General Services Administration has published regulations implementing the Architectural Barriers Act, and has adopted by reference Appendices C and D to this part as the regulatory standards for buildings and facilities subject to its regulations. 41 CFR 102-76.65, as added at 70 FR 67786, November 8, 2005; amended at 71 FR 52498, September 6, 2006; and further amended at 72 FR 5942, February 8, 2007. The General Services Administration refers to its regulatory standards as the Architectural Barriers Act Accessibility Standard (ABAAS). ABAAS applies to the construction and alteration of facilities commenced after May 8, 2006; to leases awarded for lease construction buildings on or after June 30, 2006; and to all other leases awarded pursuant to solicitations issued after February 6, 2007. The General Services Administration has also revised its Facilities Standards for the Public Building Service PBS—P100 (March 2005), and has adopted ABAAS as a mandatory standard for the construction and alteration of General Services Administration owned buildings and lease construction with government option to purchase buildings. Section 3.5 of the Facilities Standards for the Public Building Service PBS—P100 (March 2005) establishes an additional requirement that at least one automatic or power-assisted door complying with section 404.3 of ABAAS be provided at each accessible entrance required by section F206.4.1 of ABAAS. The Facilities Standards for the Public Building Service PBS—P100 (March 2005) is available on the Internet at: http://www.gsa.gov/P100.

The United States Postal Service has published regulations implementing the Architectural Barriers Act, and has adopted by reference Appendices C and D to this part, with the exception of the advisory notes, as the regulatory standards for its postal facilities, effective October 1, 2005. 39 CFR 254.1, as added at 70 FR 28213, May 17, 2005.

List of Subjects in 36 CFR Part 1191

Buildings and facilities, Civil rights, Incorporation by reference, Individuals with disabilities, Transportation.

Tricia Mason,
Chair, Architectural and Transportation Barriers Compliance Board.

Accordingly, for the reasons set forth in the preamble 36 CFR part 1191 is amended as follows:

PART 1191—AMERICANS WITH DISABILITIES ACT (ADA) ACCESSIBILITY GUIDELINES FOR BUILDINGS AND FACILITIES; ARCHITECTURAL BARRIERS ACT (ABA) ACCESSIBILITY GUIDELINES

1. The authority citation for 36 CFR part 1191 continues to read as follows:

Authority: 29 U.S.C. 792(b)(3); 42 U.S.C. 12204.

2. In § 1191.1, add Note 1 to paragraph (a) to read as follows:

Note 1 to paragraph (a): 1. The Department of Transportation has adopted by reference Appendices B and D to this part with modifications as the regulatory standards for the construction and alteration of transportation facilities subject to its regulations under the Americans with Disabilities Act, effective November 29, 2006. 49 CFR 37.9 and Appendix A to 49 CFR part 37, as amended at 71 FR 63263, October 30, 2006; and corrected at 72 FR 11089, March 12, 2007. The Department of Transportation has modified section 206.3 in Appendix B to this part; and sections 406, 810.2.2, and 810.5.3 in Appendix D to this part. The modified sections adopted by the Department of Transportation are reprinted in Appendix F to this part. Entities that are required to comply with the Department of Transportation's regulatory standards, must comply with the modified sections adopted by the Department of Transportation that are reprinted in Appendix F to this part.

3. In § 1191.1, add Notes 1 and 2 to paragraph (b) to read as follows:

Note 1 to paragraph (b): 1. The General Services Administration has adopted by reference Appendices C and D to this part as the regulatory standards for buildings and facilities subject to its regulations under the Architectural Barriers Act. 41 CFR 102-76.65, as added at 70 FR 67786, November 8, 2005; amended at 71 FR 52498, September 6, 2006; and further amended at 72 FR 5942, February 8, 2007. The General Services Administration refers to its regulatory standards as the Architectural Barriers Act Accessibility Standard (ABAAS). ABAAS applies to the construction and alteration of facilities commenced after May 8, 2006; to leases awarded for lease construction buildings on or after June 30, 2006; and to all other leases awarded pursuant to solicitations issued after February 6, 2007. Section 3.5 of the Facilities Standards for the Public Building Service PBS—P100 (March 2005) [available on the Internet at: http://www.gsa.gov/P100] establishes an additional requirement for General Services Administration owned buildings and lease construction with government option to purchase buildings to provide at least one automatic or power-assisted door complying with section 404.3 of ABAAS at each new or altered accessible entrance required by section F206.4.1 of ABAAS.

Note 2 to paragraph (b). 2. The United States Postal Service has adopted by reference Appendices C and D to this part, with the exception of the advisory notes, as the regulatory standards for its postal facilities subject to the Architectural Barriers Act, effective October 1, 2005. 39 CFR 254.1, as added at 70 FR 28213, May 17, 2005.

4. Add a new Appendix F to this part to read as follows:

Appendix F to Part 1191—Modifications Adopted by the Department of Transportation

The Department of Transportation has adopted by reference Appendices B and D to this part with modifications as the regulatory standards for the construction and alteration of transportation facilities subject to its regulations under the Americans with Disabilities Act, effective November 29, 2006. 49 CFR 37.9 and Appendix A to 49 CFR part 37, as amended at 71 FR 63263, October 30, 2006; and corrected at 72 FR 11089, March 12, 2007. The Department of Transportation has modified section 206.3 in Appendix B to this part; and sections 406, 810.2.2, and 810.5.3 in Appendix D to this part. The modified sections adopted by the Department of Transportation are reprinted in this appendix. Entities that are required to comply with the Department of Transportation's regulatory standards, must comply with modified sections adopted by the Department of Transportation that are reprinted in this appendix. The Department of Transportation has provided supplemental information on the modified sections in Appendix D to 49 CFR part 37.

Modification to 206.3 of Appendix B

206.3 Location. Accessible routes shall coincide with, or be located in the same area as general circulation paths. Where circulation paths are interior, required accessible routes shall also be interior. Elements such as ramps, elevators, or other circulation devices, fare vending or other ticketing areas, and fare collection areas shall be placed to minimize the distance which wheelchair users and other persons who cannot negotiate steps may have to travel compared to the general public.

Modification to 406 of Appendix D

406.8 Detectable Warnings. A curb ramp shall have a detectable warning complying with 705. The detectable warning shall extend the full width of the curb ramp (exclusive of flared sides) and shall extend either the full depth of the curb ramp or 24 inches (610 mm) deep minimum measured from the back of the curb on the ramp surface.

Modification to 810.2.2 of Appendix D

810.2.2 Dimensions. Bus boarding and alighting areas shall provide a clear length of 96 inches (2440 mm), measured perpendicular to the curb or vehicle roadway edge, and a clear width of 60 inches (1525 mm), measured parallel to the vehicle roadway. Public entities shall ensure that the construction of bus boarding and alighting areas comply with 810.2.2, to the extent the construction specifications are within their control.

Modification to 810.5.3 of Appendix D

810.5.3 Platform and Vehicle Floor Coordination. Station platforms shall be positioned to coordinate with vehicles in accordance with the applicable requirements of 36 CFR part 1192. Low-level platforms shall be 8 inches (205 mm) minimum above top of rail. In light rail, commuter rail, and intercity rail systems where it is not operationally or structurally feasible to meet the horizontal gap or vertical difference requirements of part 1192 or 49 CFR part 38, mini-high platforms, car-borne or platform-mounted lifts, ramps or bridge plates or similarly manually deployed devices, meeting the requirements of 49 CFR part 38, shall suffice.

Exception: Where vehicles are boarded from sidewalks or street-level, low-level platforms shall be permitted to be less than 8 inches (205 mm).

[FR Doc. E7-5049 Filed 3-22-07; 8:45 am]

BILLING CODE 8150-01-P